DEPARTMENT OF COMMERCE

National Oceanic and Atmospheric Administration

RIN 0648-XC700

Endangered and Threatened Species; Take of Anadromous Fish

AGENCY: National Marine Fisheries Service (NMFS), National Oceanic and Atmospheric Administration (NOAA), Commerce.

ACTION: Notice of availability and request for comment.

SUMMARY: Notice is hereby given that NMFS has prepared a draft Environmental Assessment under the National Environmental Policy Act (NEPA) of the potential effects of the issuance of a direct take permit for a hatchery program in Nason Creek, in the upper Columbia River basin. The permit application was provided by the Washington Department of Fish and Wildlife (WDFW) and the Public Utility District No. 2 of Grant County (Grant PUD). The proposed permit would be issued for a period of 10 years. This document serves to notify the public of the draft environmental assessment for public review, comment, and submission of written data, views, arguments, or other relevant information before a final decision on whether to issue a Finding of No Significant Impact is made by NMFS. Also available for public review and comment are two addenda, one updating the Nason Creek application and one describing a proposed adult management program associated with spring Chinook salmon hatchery plans for major tributaries to the Wenatchee River. All comments and other information received will become part of the public record and will be available for review pursuant to section 10(c) of the ESA.

DATES: Comments and other submissions must be received at the appropriate address or fax number (see ADDRESSES) no later than 5:00 p.m. Pacific time on June 13, 2013.

ADDRESSES: Written responses to the draft environmental assessment should be sent to Allyson Purcell, National Marine Fisheries Services, Salmon Management Division, 1201 N.E. Lloyd Boulevard, Suite 1100, Portland, OR 97232. Comments may also be submitted by email to: NasonCreekPlan.nwr@noaa.gov. Include in the subject line of the email comment the following identifier: Comments on the Nason Creek Hatchery Assessment. When commenting on the draft environmental assessment, please refer to the specific page number and line number of the subject of your comment. Comments may also be sent via facsimile (fax) to (503) 872-2737. Requests for copies of the draft environmental assessment should be directed to the National Marine Fisheries Services, Salmon Management Division, 1201 N.E. Lloyd Boulevard, Suite 1100, Portland, OR 97232. The documents are also available on the Internet at www.nwr.noaa.gov. Comments received will also be available for public inspection, by appointment, during normal business hours by calling (503) 230-5418.

FOR FURTHER INFORMATION CONTACT: Allyson Purcell at (503) 736-4736 or email: allyson.purcell@noaa.gov.

SUPPLEMENTARY INFORMATION:

Species Covered in This Notice

Chinook salmon (Oncorhynchus tshawytscha): endangered, naturally produced and artificially propagated Upper Columbia River spring-run.

Steelhead (Oncorhynchus mykiss): threatened, naturally produced and artificially propagated Upper Columbia.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

On September 15, 2009, Grant PUD and the Washington Department of Fish and Wildlife submitted an application for an ESA permit to operate the Nason Creek spring Chinook salmon artificial propagation (hatchery) program. That application was made available previously for public review and comment (75 FR 14133, March 24, 2010). The hatchery program would collect adult spring Chinook salmon at Tumwater Dam or a Nason Creek weir; spawn, incubate, hatch, and rear the resulting progeny at Eastbank Hatchery and an acclimation facility to be constructed on Nason Creek; release juvenile Chinook salmon into Nason Creek; and manage natural and hatchery adult returns. Adult natural-origin fish in excess of broodstock needs could be released to spawn naturally; adult hatchery-origin fish in excess of broodstock needs could be used for nutrient enhancement or be made available for harvest. The application describes monitoring and evaluation activities that would also occur. The purpose of this program is to enable Grant PUD to comply with the terms of the Priest Rapids Project Salmon and Steelhead Settlement Agreement and its Federal Energy Regulatory Commission license for the operation of the Priest Rapids Hydroelectric Project.

Subsequent to providing the original application, the WDFW provided an addendum to the HGMP describing how management of returning adult spring Chinook salmon would be addressed in conjunction with the hatchery program. The adult management plan represents an important component of the permit application.

Authority

NEPA requires Federal agencies to conduct an environmental analysis of their proposed actions to determine if the actions may affect the human environment. NMFS expects to take action on an application for a permit under section 10(a)(1)(A) of the ESA. Therefore, NMFS is seeking public input on the scope of the required NEPA analysis, including the range of reasonable alternatives and associated impacts of any alternatives.

Dated: May 24, 2013.
Angela Somma,
Chief, Endangered Species Conservation Division, Office of Protected Resources, National Marine Fisheries Service.

[FR Doc. 2013-12814 Filed 5-29-13; 8:45 am]

BILLING CODE 3510-22-P